DEPARTMENT OF THE INTERIOR

National Park Service

National Register of Historic Places; Notification of Pending Nominations

Nominations for the following properties being considered for listing in the National Register were received by the National Park Service before November 23, 2002. Pursuant to section 60.13 of 36 CFR Part 60 written comments concerning the significance of these properties under the National Register criteria for evaluation may be forwarded by United States Postal Service, to the National Register Historic Places, National Park Service, 1849 C St. NW., 2280, Washington, DC 20240; by all other carriers, National Register of Historic Places, National Park Service, 1201 Eye St. NW., 8th floor, Washington DC 20005; or by fax, (202) 343-1836. Written or faxed comments should be submitted by January 7, 2003.

Carol D. Shull,
Keeper of the National Register of Historic Places.

ARKANSAS

Cross County,

Wittsburg Fortification, (Little Rock Campaign of 1863 MPS), Address Restricted, Wittsburg, 02001626.

Ouachita County,

Tate's Bluff Fortification, (Little Rock Campaign of 1863 MPS), Address Restricted, Tate's Bluff, 02001628.

Pulaski County,

Bayou Meto (Reed's Bridge) Battlefield, (Little Rock Campaign of 1863 MPS), AR 161 at Bayou Meto, Jacksonville, 02001627.

Van Buren County,

Damascus CCC Camp, Co. No. 3781 Historic District, Camp Hill Rd., Damascus, 02001631.

CONNECTICUT

New Haven County

Northford Center, Roughly along Middletown Ave. and parts of Old Post Rd., North Branford, 02001629

Platt, Col. Asa, House, 2 Tyler City Rd., Orange, 02001630.

GEORGIA

Carroll County,

North Villa Rica Commercial Historic District, Roughly bounded by Southern Railroad, North Ave., and East Gordon and West, Church Sts., Villa Rica, 02001635.

Clarke County,

Athens Manufacturing Company, 585 While Circle, Athens, 02001634.

Decatur County,

Allen Mercantile Company, 102 Main St., Climax, 02001632.

Lowndes County

Valdosta Commercial Historic District (Boundary Increase), Roughly bounded by Valley, Lee, and Toombs Sts. and Crane Ave., Valdosta, 02001633.

LOUISIANA

Vernon Parish,

Smart, Edmond Ellison, House, 301 S. 1st. St., Leesville, 02001636.

NEW YORK

Broome County,

Building at 171-177 Clinton Street, 171-177 Clinton St., Binghamton, 02001641.

Cayuga County,

First Baptist Church of Weedsport, (Historic Designed Landscapes of Syracuse MPS), Liberty St., Weedsport, 02001640,

Cortland County,

Union Valley Congregational Church, Union Valey Cross Rd., Taylor, 02001639.

Delaware County,

Sherwood Family Estate, 484 Sherwood Rd., Dehli, 02001648.

Stratton, Walter, House, New Kingston Mountain Rd., Roxbury, 02001660.

Greene County,

IOOF Hall, 6325 Main St., Hunter, 02001642.

Monroe County,

Tall Maples Miniature Golf Course, 4083 Culver Rd., Sea Breeze, 02001653.

Montgomery County,

Frey House, NY 5, Palatine Bridge, 02001644.

Nelliston School, Stone Arabia St., Nelliston, 02001645.

Niagara County,

North Ridge United Methodist Church, (Cobblestone Architecture of New York State MPS), 3930 North Ridge Rd., North Ridge, 02001649.

Onondaga County,

Onondaga Park, (Historic Designed Landscapes of Syracuse MPS), Roughly bounded by Roberts Ave., Crosett St., Onondaga Ave. and W. Colvin, St.; Onondaga and South Ave., and Onondaga St., Syracuse, 02001657.

Ontario County,

Huffman, William, Cobblestone House, (Cobblestone Architecture of New York State MPS), 1064 Townline Rd., Phelps, 02001647.

Rockland County,

Dederer Stone House—Stonehurst, 82 Rockland Rd., Orangetown, 02001650.

Sayler, Michael, Stone House, Blue Hill Rd., Orangetown, 02001654.

Schoharie County,

Gallupville Evangelical Lutheran Church, 980 NY 443, Gallupville, 02001652.

Old Stone Fort, 145 Fort Rd., Schoharie, 02001643.

Seneca County,

First Baptist Church of Interlaken, 8414 Main St., Interlaken, 02001655.

Hoster, William, House, 3832 NY 414, Fayette, 02001662.

Tioga County,

Halsey Valley Grand Army of the Republic Meeting Hall, Hamilton Valley Rd., Tioga Center, 02001646.

Ulster County,

Terwilliger—Smith Farm, 160 Cherrytown Rd., Rochester, 02001658.

Wayne County,

East Palmyra Presbyterian Church, 2102 Whitbeck Rd., East Palmyra, 02001651.

Westchester County,

Wildcliff, 42 Wildcliff Rd., New Rochelle, 02001656.

NORTH CAROLINA

Buncombe County, West End Historic District, Roughly bounded by Club, Trade, Roberts Sts., and Park Ave., Asheville, 02001664.

Cleveland County,

East Marion—Belvedere Park Historic District, Roughlyb bounded by Cline, Chestnut, E. Marion Sts., Edgemont Ave, Belvedere Aves., and Elizabeth Rd., Shelby, 02001667.

Forsyth County,

Downtown North Historic District, Roughly bounded by W. Fifth, W. Eighth, N. Main and N. Cherry Sts., Winston-Salem, 02001669.

Oak Grove School, Oak Grove Circle, 0.3 mi. E of jct. with Bethabara Rd., Winston-Salem, 02001668.

Guilford County,

Wadsworth Congregational Church, 1301 Rock Creek Dairy Rd., Whitsett, 02001659.

Henderson County,

Lenox Park Historic District, (Hendersonville MPS). Roughly bounded by Allen, Spring, and S. Whitted Sts., and Southern RR., Hendersonville, 02001661.

Hertford County,

Parker, King, House, 304 Mount Moriah Rd., Winton, 02001663.

OREGON

Multnomah County,

Rae Selling Berry Garden and House, 11505 SW Summerville Ave., Portland, 02001637.

Polk County,

Beulah Methodist Episcopal Church, 242 North Main, Falls City, 02001638.

VIRGINIA

Frederick County,

Homespun, 949 Cedar Creek Grade, Winchester, 02001671.

Hanover County,

Spring Green, 2160 Old Church Rd., Mechanicsville, 02001672.

Richmond Independent city,

Union Hill Historic District, Roughly 20th, 21st, 22nd, 23rd, 24th 25th, Jessamine, Pink, Burton, Carrington, Cedar, Clay, Jefferson, Leigh, M, O, Sts, Richmond (Independent City), 02001670.

WISCONSIN

Jefferson County,

Hebron Town Hall, W3087 Green Isle Dr., Hebron, 02001666.

Kenosha County,

Alford Park Warehouse, 1885 Sheridan Rd., Kenosha, 02001665.

[FR Doc. 02-32171 Filed 12-20-02; 8:45 am]

BILLING CODE 4310-70-P